DEPARTMENT OF TRANSPORTATION

Federal Aviation Administration

14 CFR Part 39

[Docket No. FAA-2009-0195; Directorate Identifier 2007-SW-34-AD; Amendment 39-15837; AD 2009-06-01]

RIN 2120-AA64

Airworthiness Directives; Eurocopter France Model EC 155B and EC155B1 Helicopters

AGENCY: Federal Aviation Administration (FAA), Department of Transportation (DOT).

ACTION: Final rule; request for comments.

SUMMARY: We are adopting a new airworthiness directive (AD) for Eurocopter France (Eurocopter) Model EC 155B and EC155B1 helicopters. This AD results from mandatory continuing airworthiness information (MCAI) issued by the European Aviation Safety Agency (EASA), which is the Technical Agent for the Member States of the European Community. The MCAI states that “the Airworthiness Directive (AD) is prompted by the discovery of a short circuit evidence in hoist connector “24 Delta” even though the hoist was removed from the rotorcraft. The short circuit generated sufficient heat to ignite the paint on the cooler support cowling near the hoist cut-off connector “24 Delta.” This condition, if not corrected, could result in a fire in this area which could propagate to surrounding zones.” This AD requires actions that are intended to address this unsafe condition.

DATES: This AD becomes effective on March 31, 2009.

The incorporation by reference of certain publications is approved by the Director of the Federal Register as of March 31, 2009.

We must receive comments on this AD by May 15, 2009.

ADDRESSES: You may send comments by any of the following methods:

• Federal eRulemaking Portal: Go to http://www.regulations.gov. Follow the instructions for submitting your comments electronically.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (972) 641-3460, fax (972) 641-3527, or at http://www.eurocopter.com.

Examining the Docket: You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is stated in the ADDRESSES section of this AD. Comments will be available in the AD docket shortly after receipt.

FOR FURTHER INFORMATION CONTACT: George Schwab, Aviation Safety Engineer, FAA, Rotorcraft Directorate, Regulations and Policy Group, Fort Worth, Texas 76193-0111, telephone (817) 222-5114, fax (817) 222-5961.

SUPPLEMENTARY INFORMATION:

Discussion

EASA, which is the Technical Agent for the Member States of the European Community, has issued EASA Emergency AD No. 2007-0159-E, dated June 6, 2007, to correct an unsafe condition for Eurocopter Model EC 155B and EC155B1 helicopters.

This AD requires actions that are intended to detect a short circuit in a hoist connector and prevent a fire in the aircraft. You may obtain further information by examining the MCAI and any related service information in the AD docket.

Related Service Information

Eurocopter has issued Emergency Alert Service Bulletin No. 25A085, dated June 1, 2007. The actions described in the MCAI are intended to correct the same unsafe condition as that identified in the service information.

FAA's Evaluation and Unsafe Condition Determination

This product has been approved by the aviation authority of France, and is approved for operation in the United States. Pursuant to our bilateral agreement with France, their Technical Agent has notified us of the unsafe condition described in the MCAI. We are issuing this AD because we evaluated all information provided by EASA on behalf of France and determined the unsafe condition exists and is likely to exist or develop on other helicopters of this same type design.

Differences Between This AD and the MCAI

We have used a compliance time of 1 month rather than 3 months because of the serious consequences of an undetected short circuit and potential aircraft fire.

Costs of Compliance

We estimate that this AD will affect 1 helicopter of U.S. registry. We also estimate that it will take about 3 work-hours to comply with the basic requirements of this AD. The average labor rate is $80 per work-hour. Required parts will cost about $500 per helicopter. Based on these figures, we estimate the cost of this AD on U.S. operators will be $740.

FAA's Determination of the Effective Date

An unsafe condition exists that requires the immediate adoption of this AD. We find that the risk to the flying public justifies waiving notice and comment prior to adoption of this rule because a wiring short circuit near the hoist cut-off connector caused the paint on the cooler support cowling to catch on fire. Therefore, we have determined that notice and opportunity for public comment before issuing this AD are impracticable and that good cause exists for making this amendment effective in fewer than 30 days.

Comments Invited

This AD is a final rule that involves requirements affecting flight safety, and we did not precede it by notice and opportunity for public comment. However, we invite you to send us any written data, views, or arguments concerning this AD. Send your comments to an address listed under the ADDRESSES section of this AD. Include “Docket No. FAA-2009-0195; Directorate Identifier 2007-SW-34-AD” at the beginning of your comments. We specifically invite comments on the overall regulatory, economic, environmental, and energy aspects of this AD. We will consider all comments received by the closing date and may amend this AD because of those comments.

We will post all comments we receive, without change, to http://www.regulations.gov including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on product(s) identified in this rulemaking action.

Regulatory Findings

We determined that this AD will not have federalism implications under Executive Order 13132. This AD will not have a substantial direct effect on the States, on the relationship between the national government and the States, or on the distribution of power and responsibilities among the various levels of government.

Therefore, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2009-06-01 Eurocopter France: Amendment 39-15837. Docket No. FAA-2009-0195; Directorate Identifier 2007-SW-34-AD.

Effective Date

(a) This airworthiness directive (AD) becomes effective on March 31, 2009.

Other Affected ADs

(b) None.

Applicability

(c) This AD applies to Model EC 155B and EC155B1 helicopters with a serial number (S/N) less than 6763, and with optional equipment OP 45C07 (OP 45C07), installed, certificated in any category. OP 45C07 is the helicopter provision kit (electrical and structural mount modifications) used to support installation and operation of a hoist.

(1) To determine if your helicopter has OP 45C07 installed, review aircraft documentation, which should state if OP 45C07 equipment is installed, or

(2) Perform a physical inspection for the existence of the 24 Delta hoist electrical female connector (MIL-C-5015 type connector), which is installed, just forward of the right-hand engine cowling and just below the right engine inlet. Figures 1 and 6 of Eurocopter Emergency Alert Service Bulletin No. 25A085, dated June 1, 2007 (ASB), depict where the connector is located.

Reason

(d) The mandatory continuing airworthiness information (MCAI) states that “the Airworthiness Directive (AD) is prompted by the discovery of a short circuit evidence in hoist connector “24 Delta” even though the hoist was removed from the rotorcraft. The short circuit generated sufficient heat to ignite the paint on the cooler support cowling near the hoist cut-off connector “24 Delta.” This condition, if not corrected, could result in a fire in this area which could propagate to surrounding zones.” This AD requires actions that are intended to address this unsafe condition.

Actions and Compliance

(e) Within 7 days, unless already accomplished, do the following:

(1) Determine the orientation of the fixed connector “24 Delta” and if the large contacts are not oriented “aft,” re-orient the fixed connector so that they are facing “aft” by following the Accomplishment Instructions, paragraphs 2.B.1. and 2.B.2.a., of the ASB.

(2) Immediately after each hoist removal until the electrical bonding braid for the fixed hoist connector “24 Delta” is installed, disconnect the hoist power cable by following the Accomplishment Instructions, paragraph 2.B.2.b., of the ASB.

(f) Within 1 month, install an electrical bonding braid for connector “24 Delta” by following the Accomplishment Instructions, paragraph 2.B.2.c., of the ASB.

(g) Factory-implemented modification MOD 0745C82 is acceptable terminating action for the requirements of this AD.

Differences Between This AD and the MCAI

(h) We have used a compliance time of 1 month rather than 3 months because of the serious consequences of an undetected short circuit and potential aircraft fire.

Other Information

(i) Alternative Methods of Compliance (AMOCs): The Manager, Safety Management Group, FAA, ATTN: George Schwab, Aerospace Engineer, Rotorcraft Directorate, Regulations and Policy Group, Fort Worth, Texas 76193-0111, telephone (817) 222-5114, fax (817) 222-5961, has the authority to approve AMOCs for this AD, if requested using the procedures found in 14 CFR 39.19.

Related Information

(j) Mandatory Continuing Airworthiness Information (MCAI) Emergency Airworthiness Directive No. 2007-0159-E, dated June 6, 2007, contains related information.

Air Transport Association of America (ATA) Tracking Code

(k) ATA Code 25: 2500-Hoist box; 1420-Hoist cut-off connector.

Material Incorporated by Reference

(l) You must use the specified portions of Eurocopter Emergency Alert Service Bulletin No. 25A085, dated June 1, 2007, to do the actions required.

(1) The Director of the Federal Register approved the incorporation by reference of this service information under 5 U.S.C. 552(a) and 1 CFR part 51.

(2) For service information identified in this AD, contact American Eurocopter Corporation, 2701 Forum Drive, Grand Prairie, TX 75053-4005, telephone (972) 641-3460, fax (972) 641-3527, or at http://www.eurocopter.com.

(3) You may review copies at the FAA, Office of the Regional Counsel, Southwest Region, 2601 Meacham Blvd., Room 663, Fort Worth, Texas, or at the National Archives and Records Administration (NARA). For information on the availability of this material at NARA, call (202) 741-6030, or go to: http://www.archives.gov/federal-register/cfr/ibr-locations.html.

Issued in Fort Worth, Texas on February 19, 2009.
Scott A. Horn,
Acting Manager, Rotorcraft Directorate, Aircraft Certification Service.

[FR Doc. E9-4953 Filed 3-13-09; 8:45 am]

BILLING CODE 4910-13-P